DEPARTMENT OF HEALTH AND HUMAN SERVICES

Centers for Medicare & Medicaid Services

[Document Identifier: CMS-10218 and CMS-10250]

Agency Information Collection Activities: Proposed Collection; Comment Request

AGENCY: Centers for Medicare & Medicaid Services, Department of Health and Human Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New Collection; Title of Information Collection: Survey for the Evaluation of the Low Vision Rehabilitation Demonstration; Use: This information collection request relates to the collection of health status indicators for the Low Vision Rehabilitation Demonstration through the beneficiary survey. The survey will be conducted among Medicare beneficiaries with vision problems who have received vision services. CMS intends to administer the Low Vision Survey (LVS) for approximately eighteen months. Data on the process of implementing the demonstration will also be collected through telephone interviews with physicians and beneficiaries who receive low vision services. Focus groups will be conducted with low vision rehabilitation specialists. Form Numbers: CMS-10218 (OMB#: 0938-NEW); Frequency: Reporting—Once and Yearly; Affected Public: Individuals and households; Number of Respondents: 2131; Total Annual Responses: 2131; Total Annual Hours: 1059.

2. Type of Information Collection Request: New Collection; Title of Information Collection: Submission of Information for the Hospital Outpatient Quality Data Program; Use: The submission of outpatient hospital quality of care information builds on the requirement to submit such data for inpatient hospital care as required under 501(b) of the Medicare Prescription Drug, Improvement and Modernization Act of 2003 (MMA) (Pub. L. 108-173). The requirement to submit hospital quality of care information is intended to empower consumers with quality of care information to make more informed decisions about their health care while also encouraging hospitals and clinicians to improve the quality of care. This information is used by CMS to direct its contractor, including Quality Improvement Organizations (QIOs), to focus on particular areas of improvement, and to develop quality improvement initiatives. The information will be made available to hospitals for their use in internal quality improvement initiatives. Most importantly, this information is available to beneficiaries, as well as to the public in general, to provide hospital information to assist them in making decisions about their health care. Form Numbers: CMS-10250 (OMB#: 0938-NEW); Frequency: Reporting—quarterly; Affected Public: Private Sector—For-profit and not-for-profit institutions; Number of Respondents: 3,500; Total Annual Responses: 17,500; Total Annual Hours: 914,000.

To obtain copies of the supporting statement and any related forms for the proposed paperwork collections referenced above, access CMS' Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on December 4, 2007.

CMS, Office of Strategic Operations and Regulatory Affairs, Division of Regulations Development—C, Attention: Bonnie L Harkless, Room C4-26-05, 7500 Security Boulevard, Baltimore, Maryland 21244-1850.

Dated: September 27, 2007.
Michelle Shortt,
Director, Regulations Development Group, Office of Strategic Operations and Regulatory Affairs.

[FR Doc. E7-19505 Filed 10-4-07; 8:45 am]

BILLING CODE 4120-01-P